DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “2010-2011 Medical Expenditure Panel Survey Insurance Component.” In accordance with the Paperwork Reduction Act of 1995, 44 U.S.C. 3506(c)(2)(A), AHRQ invites the public to comment on this proposed information collection.

This proposed information collection was previously published in the Federal Register on June 16th, 2009 and allowed 60 days for public comment. No comments were received. The purpose of this notice is to allow an additional 30 days for public comment.

DATES: Comments on this notice must be received by September 21, 2009.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

2010-2011 Medical Expenditure Panel Survey Insurance Component

AHRQ seeks to renew the Medical Expenditure Panel Survey Insurance Component (MEPS-IC) for calendar years 2010 and 2011. The MEPS-IC, an annual survey of the characteristics of employer-sponsored health insurance, was first conducted by AHRQ in 1997 for the calendar year 1996. The survey has since been conducted annually for calendar years 1996 through 2009, except for 2007. A change from prior year collection to calendar year collection in 2008 meant that no data were collected for the 2007 calendar year, but the change has allowed for much earlier release of the survey results for the 2008 calendar year forward. AHRQ is authorized to conduct the MEPS-IC pursuant to 42 U.S.C. 299b-2.

Employment-based health insurance is the source of coverage for over 90 million workers and their family members, and is a cornerstone of the current U.S. health care system. The MEPS-IC measures the extent, cost, and coverage of employment-based health insurance. Statistics are produced at the National, State, and sub-State (metropolitan area) level.

The MEPS-IC is designed to provide data for Federal policymakers evaluating the effects of National and State health care reforms. It also provides descriptive data on the current employment-based health insurance system and data for modeling the differential impacts of proposed health policy initiatives. The MEPS-IC also supplies critical State and National estimates of health insurance spending for the National Health Accounts and Gross Domestic Product. Data to be collected from each employer will include a description of the organization (e.g., size, industry) and descriptions of health insurance plans available, plan enrollments, total plan costs and costs to employees. This survey will be conducted for AHRQ by the Bureau of the Census using an annual sample of employers selected from Census Bureau lists of private sector employers and governments.

The MEPS-IC is one of three components of the MEPS. The others are the Household and Medical Provider Components:

MEPS Household Component is a sample of households participating in the National Health Interview Survey in the prior calendar year. These households are interviewed 5 times over a 2½ year period for MEPS. The 5 interviews yield two years of information on use of and expenditures for health care, sources of payment for that health care, insurance status, employment, health status and health care quality.

MEPS Medical Provider Component collects information from medical and financial records maintained by hospitals, physicians, pharmacies, health care institutions, and home health agencies named as sources of care by household respondents.

This clearance request is for the MEPS-IC only.

Method of Collection

Data collection for the MEPS-IC takes place in three phases at each sample establishment: prescreening interview, questionnaire mailout, and nonresponse follow-up. An establishment is a single location of a private sector or State and local government employer.

First, a prescreening interview is conducted by telephone. For those establishments that offer health insurance, its goal is to obtain the name and title of an appropriate person in each establishment to whom a MEPS-IC questionnaire will be mailed. For establishments which do not offer health insurance, a brief set of questions about establishment characteristics is administered at the end of the prescreening interview to close out the case. This step minimizes burden for many small establishments that do not offer health insurance.

The next phase, questionnaire mailout, makes use of two forms—one requests establishment-level information (e.g., total number of employees) and the other requests plan-level information (e.g., the plan premium for single coverage) for each plan (up to four) offered by the establishment.

In the final phase, establishments which do not respond to the initial MEPS-IC mail questionnaire are mailed a nonresponse follow-up package. Those establishments which fail to respond to the second mailing are contacted for a telephone follow-up using computer-assisted interviewing.

Data collection for the largest private sector and government units, which have high survey response burdens, may differ somewhat from the above pattern.

Estimated Annual Respondent Burden

Exhibit I shows the estimated annualized burden hours for the respondents' time to provide the requested data. The Prescreener questionnaire will be completed by 32,006 respondents and takes about 5½ minutes to complete. The Establishment questionnaire will be completed by 24,965 respondents and takes about 23 minutes to complete. The Plan questionnaire will be completed by 21,437 respondents and will require an average of 2.1 responses per respondent. Each Plan questionnaire takes about 11 minutes to complete. The total annualized burden hours are estimated to be 20,471 hours.

Exhibit 2 shows the estimated annualized cost burden associated with the respondents' time to participate in this data collection. The annualized cost burden is estimated to be $546,576.

Exhibit 1—Estimated Annualized Burden Hours
Form name | Number of respondents | Number of responses per response | Hours per response | Total burden hours
Prescreener Questionnaire | 32,006 | 1 | 0.09 | 2,881
Establishment Questionnaire | 24,965 | 1 | 0.38 | 9,487
Plan Questionnaire | 21,437 | 2.1 | 0.18 | 8,103
Total | 78,408 | na | na | 20,471

Note: The total number of respondents increased from previous clearances not due to any increase in sample size, but due to a change in the way the number of respondents is reported. While now total respondents are the sum of respondents per form, previously they were reported as the number of unique establishments completing at least one form.

Exhibit 2—Estimated Annualized Cost Burden
Form name | Number of respondents | Total burden hours | Average hourly wage rate* | Total cost burden
Prescreener Questionnaire | 32,006 | 2,881 | 26.70 | $76,923
Establishment Questionnaire | 24,965 | 9,487 | 26.70 | 253,303
Plan Questionnaire | 21,437 | 8,103 | 26.70 | 216,350
Total | 78,408 | 20,471 | na | 546,576
*Based upon the mean wage for Compensation, benefits, and job analysis specialists, civilian workers, National Compensation Survey: Occupational Earnings in the United States, 2007, U.S. Department of Labor, Bureau of Labor Statistics.

Estimated Annual Costs to the Federal Government

Exhibit 3 shows the estimated total and annualized cost for this two year project. The annual cost to the Federal Government is estimated to be $10.3 million.

Exhibit 3—Estimated Total and Annualized Cost
[$ thousands]
Cost component | Total cost | Annualized cost
Project Development | $3,099 | $1,550
Data Collection Activities | 7,230 | 3,615
Data Processing and Analysis | 7,230 | 3,615
Project Management | 2,066 | 1,033
Overhead | 1,033 | 517
Total | $20,658 | $10,329

Note: Components may not sum to Total due to rounding.

Request for Comments

In accordance with the above-cited Paperwork Reduction Act legislation, comments on AHRQ's information collection are requested with regard to any of the following: (a) Whether the proposed collection of information is necessary for the proper performance of AHRQ health care research, quality improvement and information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: August 13, 2009.
Carolyn M. Clancy,
Director.

[FR Doc. E9-20021 Filed 8-19-09; 8:45 am]

BILLING CODE 4160-90-M